DEPARTMENT OF EDUCATION

National Assessment Governing Board; Information Collection Request

AGENCY: National Assessment Governing Board; Department of Education.

ACTION: Notice of revised information collection request; Request for comment.

SUMMARY: The National Assessment Governing Board (NAGB) is revising the Notice of Proposed Information Collection Request (ICR) published on January 17, 2000 in two ways. First, this notice extends the time for public comment to the National Assessment Governing Board to March 17, 2000. Per instructions in the January 17, 2000 notice, submit written comments identified by “ICR: VNT Research and Validation Support Studies (Option Year 2)” by mail or in person addressed to: Ray Fields, Assistant Director, National Assessment Governing Board, Suite 825, 800 North Capitol Street, NW, Washington, DC 20002. Comments may also be submitted electronically by sending electronic mail (e-mail) to Ray_Fields@ED.Gov. Electronic comments must be identified by the title of the ICR.

Second, this notice is to inform the public that an emergency review of this Information Collection Request has been requested in accordance with the Paperwork Reduction Act of 1995 (the Act) (44 U.S.C. Chapter 3507(j)). Approval by the Office of Management and Budget (OMB) has been requested by March 17, 2000. Emergency review is requested because of an unanticipated event outside the control of the National Assessment Governing Board. Interested persons are invited to submit comments to the address below on or before March 17, 2000 to inform the emergency review by OMB.

ADDRESSES: Written comments regarding the emergency review should be addressed to the Office of Information and Regulatory Affairs; Attention: Danny Werfel, Desk Officer: Department of Education; Office of Management and Budget; 725 17th Street, NW, Room 10235; New Executive Office Building; Washington, DC 20503 or should be electronically mailed to the internet address DWERFEL@OMB.EOP.GOV. Submit written comments identified by “ICR: VNT Research and Validation Support Studies (Option Year 2).” The National Assessment Governing Board will forward to OMB any comments received from the public in response to the January 17, 2000 notice inviting requests for public comment on this ICR and in response to this notice, extending the public comment period to March 17, 2000.

SUPPLEMENTARY INFORMATION: Section 3506 of the Act (44 U.S.C. Chapter 35) requires that the Director of OMB provide interested federal agencies and the public an early opportunity to comment on information collection requests. The Office of Management and Budget (OMB) may amend or waive the requirement for public consultation to the extent that public participation in the approval process would defeat the purpose of the information collection, violate State or federal law, or substantially interfere with any agency's ability to perform its statutory obligations. In compliance with the Paperwork Reduction Act (44 U.S.C. 3501 et seq.), this notice revises a proposed information collection request (ICR) of the National Assessment Governing Board (the Governing Board, or NAGB) published on January 17, 2000. The information collection is to conduct two research and validation support studies related to test development for the proposed Voluntary National Test (VNT) during Spring 2000.

Copies of this ICR may be obtained from Ray Fields, Assistant Director, National Assessment Governing Board, Suite 825, 800 North Capitol Street, NW, Washington, DC 20002. Telephone: (202) 357-0395; e-mail: Ray_Fields @ED.Gov.

I. Information Collection Request

The National Assessment Governing Board is seeking comments on the following Information Collection Request (ICR).

Title: Voluntary National Tests (VNT): Research and Validation Support Studies (Option Year 2).

Affected Entities: Parties affected by this information collection are individuals and State, local, or Tribal SEAs or LEAs.

Abstract: In order to comply with the mandates of Public Law 105-78, the National Assessment Governing Board (NAGB) proposes to conduct two research and validation support studies. Congress vested exclusive authority in the Governing Board for test development for the proposed VNT. At the same time, Congress prohibited pilot testing and field testing of questions developed for the proposed VNT. No test question developed for the proposed VNT will be used in these research studies. Instead, test questions used for the National Assessment of Educational Progress (NAEP) will be employed. This is to ensure that the prohibition on pilot and field testing is not violated, while still providing for research needed to answer questions related to test development.

The data collected will serve two purposes: (a) Provide information on the feasibility of a calibration linkage between the proposed Voluntary National Tests (VNT) and the National Assessment of Educational Progress (NAEP) (more specifically—between a test designed to give individual results and a survey designed to report group results); and (b) provide information needed to inform policy and practice related to test accommodations for students with limited English proficiency, specifically, to help guide the development of an 8th grade mathematics test booklet in two languages (i.e., a “dual language” booklet in this case in English and Spanish).

The two research studies will also assist NAGB in making three of the four determinations required by Congress: (1) The extent to which test items selected for use on the tests are free from racial, cultural or gender bias; (2) whether the test development process and test items adequately assess student reading and mathematics comprehension in the form most likely to yield accurate information regarding student achievement in reading and mathematics; and (3) whether the test development process and test items take into account the needs of disadvantaged, limited English proficient and disabled students.

The first study is directed toward establishing the feasibility of a calibration linkage between a test form resembling an individual test and a survey of group results—the National Assessment. Research questions to be answered include the following: What are the effects on the measurement of student performance of an individually administered test that shares a framework with NAEP but which differs somewhat from NAEP in content coverage, administration, and unit of analysis? Is it possible to establish a strong link between the group-focused results of NAEP and such an individually administered test? What inferences can be supported by such a link?

4800 students from Grade 4 and 4800 students from Grade 8 are expected to participate in this study. The 9600 students will be divided equally across three conditions.

Students in the first condition will take an “NAEP Special Form” booklet, consisting of NAEP items constructed to be as parallel as possible to the proposed VNT forms. This parallelism would include content coverage, timing, and shape of the test information function (TIF), which has been proposed to be flatter than the TIF for NAEP. Because empirical information on each item is needed to construct a form with a specified TIF, the items would come from the previous NAEP administration in the respective subjects.

Students in the second condition would take “Extended NAEP” booklets, which are based on blocks of items from the 2000 NAEP administration and would be constructed to be representative of the content and statistical specifications (TIF) of NAEP. The forms for Grade 8 mathematics would consist of six intact 15-minute blocks administered in two 45-minute sessions. The forms for Grade 4 reading would consist of four NAEP reading blocks, also administered in two 45-minute sessions. (Because the reading blocks are timed at 25 minutes each, some items will have to be deleted to fit into the reduced testing time.) The administration of these forms would be under conditions proposed for the VNT. To avoid the circularity of linking the same items to themselves, the items used in the Extended-NAEP forms should be distinct from those used in the NAEP Special Forms.

In the first two conditions of this proposed study, the two types of forms would be spiraled together and administered to equivalent samples of students. Because the NAEP Special Forms and the Extended-NAEP forms would be administered under the same conditions, issues of administration, timing, and motivation become moot. If the content match between the NAEP Special Forms and the simulated VNT forms could be made sufficiently close, a linking study between the two types of forms would approximate a linkage study between actual VNT forms and Extended-NAEP. If a calibration were successful, the resulting linkage interpretations would be in terms of student performance on NAEP when NAEP is given under VNT conditions.

Students in the third condition differ from the other two in that they would be taking the “NAEP Special Form” under motivated circumstances. It is quite plausible that the same student would perform at a higher level under a motivated situation such as the VNT, where individual scores are obtained than under a low motivation situation such as the NAEP. This differential effect of motivation could impact achievement level cut-points (among other things) in ways that cannot be assessed in the two conditions described above. Consequently, the third condition of this study involves paying students $1 for every item they answer correctly. This procedure is directly modeled after research conducted on motivational interventions for the NAEP. A comparison of item parameters and test characteristic curves for the NAEP Special Forms under motivated and unmotivated conditions would provide information on the differential impact of motivation and how to adjust results from any subsequent linking study between the VNT and NAEP.

The second study involves a series of subtasks directed toward informing NAGB's inclusion and accommodation policies regarding LEP students. These tasks are:

Subtask A

Writing an issues paper covering theory and research related to the development of a dual language test. This paper would inform procedures to be used in the translation of items into the second language (i.e., Spanish) (Subtask B).

Subtask B

Using released and secure NAEP 8th grade mathematics items to construct simulated VNT-M test booklets (dual language and English-only versions). The English language version of this booklet will be the same as the one for the “NAEP Special Form” described earlier.

Subtask C

Evaluating the psychometric equivalence of the dual language and English-only booklets via traditional quantitative analyses. Six hundred bilingual and LEP students will be recruited and randomly assigned to complete either the dual language or English-only version of the test booklet. Quantitative analyses will be conducted to examine the psychometric equivalence of the two test versions (mean differences; differential item functioning; correlations).

Subtask D

Conducting focus groups of students immediately after they take the VNT-M to document students' overall experience with the two types of booklets. Sixty students will be recruited to do these focus groups, in order to obtain their insights and general reactions to the booklets.

Subtask E

Conducting cognitive laboratory studies to obtain in-depth information on the validity of the translation and about how students use the dual language test. An additional nine LEP and nine English-speaking students will be asked to participate in this study, in order to explore the performance of both Anglo and Hispanic LEP students to identify solution pathways that students choose to use.

Subtasks C through E will allow for a thorough investigation into the cognitive processes that bilingual and limited English proficient (LEP) students employ when using the dual language version of the VNT-M. In addition, they will provide information about factors other than mathematical knowledge and problem-solving ability that may have an effect on their performance on the test.

The five subtasks listed above will offer answers to the following research questions to examine the quality of the dual language test, taking into account several features of the items:

Cognitive: Do students understand the native language version of the test questions as a vehicle for assessing mathematics? (Subtasks C, D, E)

Content: Is the content of the native language version of the test questions the same as the English version? (Subtasks B, C, D, E)

Format: What considerations should be given to how the test questions appear on the pages of the test booklet? (Subtasks A, B)

Cultural: Is the native language version clear and acceptable to the various communities in the United States for whom this is the native language? (Subtasks A, B, C, D, E)

Academic: Are the grammar and language structure used in the native language version correct? (Subtasks B, D, E)

Scoring: What considerations need to be made for scoring dual language test booklets? (Subtask A)

Psychometric Equivalence: Is there a psychometric equivalence between the dual language version and the English only versions of the test? (Subtask C)

A total of 10,800 students is expected to participate in the two studies (4800 4th graders and 4800 8th graders in the calibration linkage feasibility study; 1,200 LEP and bilingual students taking the dual language or English-only math test (from which there will be 60 focus group participants); and 18 cognitive laboratory participants). These students will be recruited from 300 schools. Students in the motivated condition of the calibration linkage study, focus group participants and cognitive laboratory participants will receive a token monetary incentive. Also under consideration is a modest monetary incentive for each participating school.

Burden Statement: Assuming a 2 hour burden for each of the 10,800 students expected to participate in the two studies, a total of 21,600 hours is estimated. An additional 300 hours of school burden (one hour per participating school) is expected, reflecting the time it would take to collect student background data for our research purposes. Participation in this study is voluntary. State, local, and non-public education agencies will not be mandated or required to participate.

II. Request for Comments

The National Assessment Governing Board is especially interested in public comments that will assist it:

(a) Evaluate whether the proposed collection of information is necessary for the proper performance of the functions of the Governing Board, including whether the information will have practical utility;

(b) Evaluate the accuracy of the Governing Board's estimates of the burden of the proposed collection of information;

(c) Enhance the quality, utility and clarity of the information to be collected;

(d) Minimize the burden of the collection of the information on those who are to respond, including through the use of appropriate automated, mechanical or other technological collection techniques or other forms of information technology, e.g., permitting electronic submission of responses.

Dated: February 15, 2000.
Roy Truby,
Executive Director, National Assessment Governing Board.

[FR Doc. 00-4016 Filed 2-17-00; 8:45 am]

BILLING CODE 4000-01-U